DEPARTMENT OF AGRICULTURE

Food Safety and Inspection Service

[Docket No. 03-002N]

Codex Alimentarius: Meeting of the Codex Committee on Residues of Veterinary Drugs in Foods

AGENCY: Office of the Under Secretary for Food Safety.

ACTION: Notice of public meeting; request for comments.

SUMMARY: The Office of the Under Secretary for Food Safety, U.S. Department of Agriculture (USDA) and the Center for Veterinary Medicine (CVM), U.S. Food and Drug Administration (FDA), are sponsoring a public meeting on Tuesday, February 18, 2003, to provide information and receive public comments on agenda items that will be discussed at the 14th Session of the Codex Committee on Residues of Veterinary Drugs in Foods (CCRVDF), which will be held in Washington, DC on March 4-7, 2003. The Under Secretary and CVM recognize the importance of providing interested parties with information about CCRVDF of the Codex Alimentarius Commission and of discussing items on the Agenda for the 14th Session of the Committee.

DATES: The public meeting is scheduled for Tuesday, February 18, 2003 from 9 a.m. to 12 p.m.

ADDRESSES: The public meeting will be held in Room 0161 of the South Building, Department of Agriculture, 1400 Independence Avenue SW., Washington, DC (Smithsonian Metro Stop). To receive copies of the documents referenced in the notice contact the FSIS Docket Clerk, U.S. Department of Agriculture, Food Safety and Inspection Service, Room 102, Cotton Annex, 300 12th Street, SW., Washington, DC 20250-3700. The documents will also be accessible via the World Wide Web at the following address: http://www.codexalimentarius.net/current.asp. A link is provided there to the agenda.

If you have comments, please send an original and two copies to the FSIS Docket Clerk and reference Docket Number 03-002N. All comments submitted will be available for public inspection in the Docket Clerk's Office between 8:30 am and 4:30 pm, Monday through Friday.

FOR FURTHER INFORMATION CONTACT: Edith E. Kennard, Staff Officer, U.S. Codex Office, Food Safety and Inspection Service, Room 4861, South Building, 1400 Independence Avenue SW., Washington, DC 20250, Phone: (202) 720-5261, Fax: (202) 720-3157, e-mail: edith.kennard@fsis.usda.gov.

SUPPLEMENTARY INFORMATION:

Background

The Codex Alimentarius Commission was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled. In the United States, USDA, FDA, and the Environmental Protection Agency (EPA) manage and carry out U.S. Codex activities.

The Codex Committee on Residues of Veterinary Drugs in Foods held its First Session in Washington, DC on 27-31 October, 1986. The Committee's Terms of Reference are:

(a) To determine priorities for the consideration of residues of veterinary drugs in foods;

(b) To recommend maximum levels of such substances;

(c) To develop codes of practice as may be required;

(d) To consider methods of sampling and analysis for the determination of veterinary drug residues in foods.

The Codex Committee on Residues of Veterinary Drugs in Foods is hosted by the United States.

Issues To Be Discussed at the Public Meeting

Provisional agenda items to be discussed during the public meeting:

—Consideration of Draft Maximum Residue Limits for Veterinary Drugs;

—Proposed Draft Appendix on the Prevention and Control of Veterinary Drug Residues in Milk and Milk Products;

—Proposed Draft Code of Practice to Minimize and Contain Antimicrobial Resistance;

—Proposed Draft Revised Guidelines for the Establishment of a Regulatory Programme for the Control of Veterinary Drugs in Foods;

—Discussion Paper on Risk Analysis Principles and Methodologies, including Risk Assessment;

—Policies in the Codex Committee on Residues of Veterinary Drugs in Foods;

—Discussion Paper on Residue Issues;

—Review of Performance-Based Criteria for Methods of Analysis;

—Consideration of the Identification of Routine Methods of Analysis;

—Consideration of the Priority List of Veterinary Drugs Requiring Evaluation or Re-evaluation.

Public Meeting

At the February 18 public meeting, the agenda items will be described and discussed, and attendees will have the opportunity to pose questions and offer comments. Comments may be sent to the FSIS Docket Room (see ADDRESSES). Written comments should state that they relate to activities of the Codex Committee on Residues of Veterinary Drugs in Foods.

Additional Public Notification

Pursuant to Departmental Regulation 4300-4, “Civil Rights Impact Analysis,” dated September 22, 1993, FSIS has considered the potential civil rights impact of this notice on minorities, women, and persons with disabilities. Therefore, to ensure that these groups and others are made aware of this meeting, FSIS will announce it and provide copies of the Federal Register publication in the FSIS Constituent Update. FSIS provides a weekly FSIS Constituent Update, which is communicated via Listserv, a free e-mail subscription service. In addition, the update is available on line through the Internet at http://www.fsis.usda.gov. The update is used to provide information regarding FSIS policies, procedures, regulations, Federal Register notices, FSIS public meetings, recalls, and any other types of information that could affect or would be of interest to our constituents and stakeholders. The constituent Listserv consists of industry, trade, and farm groups, consumer interest groups, allied health professionals, scientific professionals, and other individuals who have requested to be included. Through the Listserv and Web page, FSIS is able to provide information to a much broader, more diverse audience.

For more information, contact the Congressional and Public Affairs Office at (202) 720-9113. To be added to the free e-mail subscription service (Listserv), go to the “Constituent Update” page on the FSIS Web site at http://www.fsis.usda.gov/oa/update.htm. Click on the “Subscribe to the Constituent Update Listserv” link, then fill out and submit the form.

Done at Washington, DC, on January 28, 2003.
F. Edward Scarbrough,
U.S. Manager for Codex Alimentarius.

[FR Doc. 03-2306 Filed 1-30-03; 8:45 am]

BILLING CODE 3410-DM-P